COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and service to the Procurement List that will be provided by nonprofit agencies employing persons who are blind or have other severe disabilities.

DATES: Date added to the Procurement List: September 23, 2018.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 4/27/2018 (83 FR 82), 5/3/2018 (83 FR 86), 6/8/2018 (83 FR 111), 6/15/2018 (83 FR 116), and 7/27/2018 (83 FR 145), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products

NSN(s)—Product Name(s):

8415-01-605-7311—Coverall, Fuel Handlers, Type II, Class III, Coyote, XXSM

8415-01-605-7315—Coverall, Fuel Handlers, Type II, Class III, Coyote, XSM

8415-01-605-7316—Coverall, Fuel Handlers, Type II, Class III, Coyote, SM

8415-01-605-7317—Coverall, Fuel Handlers, Type II, Class III, Coyote, MED

8415-01-605-7318—Coverall, Fuel Handlers, Type II, Class III, Coyote, LG

8415-01-605-7319—Coverall, Fuel Handlers, Type II, Class III, Coyote, XLG

8415-01-605-7321—Coverall, Fuel Handlers, Type II, Class III, Coyote, XXLG

Mandatory for: 100% of the requirement for the U.S. Army

Mandatory Source of Supply: Winston-Salem Industries for the Blind, Inc., Winston-Salem, NC

Contracting Activity: Army Contracting Command—Aberdeen Proving Ground, Natick Contracting Division

Distribution: C-List

Public Comments: One comment was received in response to the Commission's Notice published in the Federal Register, from Federal Prison Industries (FPI) on July 5, 2018.

The Commission's regulation, 41 CFR 51-1.2, states “Federal Prison Industries, Inc. has priority, under the provisions of 18 U.S.C. 4124, over nonprofit agencies employing persons who are blind or have other severe disabilities in furnishing commodities for sale to the Government. All or a portion of the Government's requirement for a commodity for which Federal Prison Industries, Inc. has exercised its priority may be added to the Procurement List. However, such addition is made with the understanding that procurement under the JWOD Act shall be limited to that portion of the Government's requirement for the commodity which is not available or not required to be procured from Federal Prison Industries, Inc.”

Accordingly, as required by 41 CFR 51-3.3(d), NIB “obtain(ed) a decision from Federal Prison Industries on the exercise or waiver of its priority” and consistent with 41 CFR 51-3.3(e), provided a copy of the decision to the Commission.

In this case, FPI initially exercised its priority and denied the waiver, and stated this in its public comment to the Commission. FPI however had subsequently issued a partial waiver to NIB, by email dated on June 15, 2018, stating, “After careful consideration, FPI will waive the coverall for a period of two years (6/2018—6/2020).”

Commission Response to Final Federal Register Comment: The U.S. AbilityOne Commission received one comment to its initial Federal Register Notice of June 8, 2018 (Vol. 83, No. 111) from Federal Prison Industries (FPI). In its comment, FPI stated that it had denied the waiver of FPI's priority, requested by National Industries for the Blind (NIB) pursuant to 41 CFR 51-3.3(e). Prior to the receipt of the public comment, however, on June 15, 2018, FPI had issued a partial waiver, not to exceed two (2) years. Based on the partial waiver, the Commission determined to add the Fuel Handlers Coveralls to the Procurement List.

NSN(s)—Product Name(s):

2540-00-587-2532—Tarpaulin, Green, 12′ x 17′

2540-01-330-8062—Tarpaulin, Tan, 12′ x 17′

Mandatory Source of Supply: Association for Vision Rehabilitation and Employment, Inc., Binghamton, NY

Contracting Activity: Defense Logistics Agency Land and Maritime

Public Comments: One comment was received in response to the Commission's Notice published in the Federal Register, from Federal Prison Industries (FPI) on May 22, 2018.

The Commission's regulation, 41 CFR 51-1.2, states “Federal Prison Industries, Inc. has priority, under the provisions of 18 U.S.C. 4124, over nonprofit agencies employing persons who are blind or have other severe disabilities in furnishing commodities for sale to the Government. All or a portion of the Government's requirement for a commodity for which Federal Prison Industries, Inc. has exercised its priority may be added to the Procurement List. However, such addition is made with the understanding that procurement under the JWOD Act shall be limited to that portion of the Government's requirement for the commodity which is not available or not required to be procured from Federal Prison Industries, Inc.”

Accordingly, as required in 41 CFR 51-3.3(d), NIB “obtain(ed) a decision from Federal Prison Industries on the exercise or waiver of its priority” and consistent with 41 CFR 51-3.3(e), provided a copy of that decision to the Commission.

In this case, FPI initially exercised its priority and denied the waiver, as it stated in its public comment to the Commission. Subsequent to that decision, FPI issued a partial waiver to NIB, signed and dated July 1, 2018, stating, “FPI will waive this item for 12 months (7/1/2018—6/30/2019).”

Commission Response to Federal Register Comment: The U.S. AbilityOne Commission received one comment in response to its initial Federal Register Notice of April 27, 2018 (Vol. 83, No. 82) from Federal Prison Industries (FPI). In its comment, FPI stated that it had denied the waiver of FPI's priority as requested by National Industries for the Blind (NIB) pursuant to 41 CFR 51-3.3(e). Subsequent to the waiver denial, FPI issued a partial waiver on July 1, 2018, not to exceed twelve (12) months, from July 1, 2018 to June 30, 2018. Based on the partial waiver, the Commission determined to add the tarpaulins to the Procurement List.

NSN(s)—Product Name(s):

8405-00-NIB-0542—Kit, Pre-Cut Fabric, Pinpoint Dress Shirt, Coast Guard, Men's, Long Sleeve, White, 13½ x 32

8405-00-NIB-0543—Kit, Pre-Cut Fabric, Pinpoint Dress Shirt, Coast Guard, Men's, Long Sleeve, White, 14½ x 30

8405-00-NIB-0544—Kit, Pre-Cut Fabric, Pinpoint Dress Shirt, Coast Guard, Men's, Long Sleeve, White, 14½ x 31

8405-00-NIB-0545—Kit, Pre-Cut Fabric, Pinpoint Dress Shirt, Coast Guard, Men's, Long Sleeve, White, 14½ x 32

8405-00-NIB-0546—Kit, Pre-Cut Fabric, Pinpoint Dress Shirt, Coast Guard, Men's, Long Sleeve, White, 14½ x 33

8405-00-NIB-0547—Kit, Pre-Cut Fabric, Pinpoint Dress Shirt, Coast Guard, Men's, Long Sleeve, White, 14½ x 34

8405-00-NIB-0548—Kit, Pre-Cut Fabric, Pinpoint Dress Shirt, Coast Guard, Men's, Long Sleeve, White, 14½ x 35

8405-00-NIB-0549—Kit, Pre-Cut Fabric, Pinpoint Dress Shirt, Coast Guard, Men's, Long Sleeve, White, 14 x 30

8405-00-NIB-0550—Kit, Pre-Cut Fabric, Pinpoint Dress Shirt, Coast Guard, Men's, Long Sleeve, White, 14 x 32

8405-00-NIB-0551—Kit, Pre-Cut Fabric, Pinpoint Dress Shirt, Coast Guard, Men's, Long Sleeve, White, 14 x 33

8405-00-NIB-0552—Kit, Pre-Cut Fabric, Pinpoint Dress Shirt, Coast Guard, Men's, Long Sleeve, White, 14 x 34

8405-00-NIB-0553—Kit, Pre-Cut Fabric, Pinpoint Dress Shirt, Coast Guard, Men's, Long Sleeve, White, 15½ x 30

8405-00-NIB-0554—Kit, Pre-Cut Fabric, Pinpoint Dress Shirt, Coast Guard, Men's, Long Sleeve, White, 15½ x 31

8405-00-NIB-0555—Kit, Pre-Cut Fabric, Pinpoint Dress Shirt, Coast Guard, Men's, Long Sleeve, White, 15½ x 32

8405-00-NIB-0556—Kit, Pre-Cut Fabric, Pinpoint Dress Shirt, Coast Guard, Men's, Long Sleeve, White, 15½ x 33

8405-00-NIB-0557—Kit, Pre-Cut Fabric, Pinpoint Dress Shirt, Coast Guard, Men's, Long Sleeve, White, 15½ x 34

8405-00-NIB-0558—Kit, Pre-Cut Fabric, Pinpoint Dress Shirt, Coast Guard, Men's, Long Sleeve, White, 15½ x 35

8405-00-NIB-0559—Kit, Pre-Cut Fabric, Pinpoint Dress Shirt, Coast Guard, Men's, Long Sleeve, White, 15½ x 36

8405-00-NIB-0560—Kit, Pre-Cut Fabric, Pinpoint Dress Shirt, Coast Guard, Men's, Long Sleeve, White, 15 x 30

8405-00-NIB-0561—Kit, Pre-Cut Fabric, Pinpoint Dress Shirt, Coast Guard, Men's, Long Sleeve, White, 15 x 31

8405-00-NIB-0562—Kit, Pre-Cut Fabric, Pinpoint Dress Shirt, Coast Guard, Men's, Long Sleeve, White, 15 x 32

8405-00-NIB-0563—Kit, Pre-Cut Fabric, Pinpoint Dress Shirt, Coast Guard, Men's, Long Sleeve, White, 15 x 33

8405-00-NIB-0564—Kit, Pre-Cut Fabric, Pinpoint Dress Shirt, Coast Guard, Men's, Long Sleeve, White, 15 x 34

8405-00-NIB-0565—Kit, Pre-Cut Fabric, Pinpoint Dress Shirt, Coast Guard, Men's, Long Sleeve, White, 15 x 35

8405-00-NIB-0566—Kit, Pre-Cut Fabric, Pinpoint Dress Shirt, Coast Guard, Men's, Long Sleeve, White, 15 x 36

8405-00-NIB-0567—Kit, Pre-Cut Fabric, Pinpoint Dress Shirt, Coast Guard, Men's, Long Sleeve, White, 15 x 37

8405-00-NIB-0568—Kit, Pre-Cut Fabric, Pinpoint Dress Shirt, Coast Guard, Men's, Long Sleeve, White, 16½ x 31

8405-00-NIB-0569—Kit, Pre-Cut Fabric, Pinpoint Dress Shirt, Coast Guard, Men's, Long Sleeve, White, 16½ x 32

8405-00-NIB-0570—Kit, Pre-Cut Fabric, Pinpoint Dress Shirt, Coast Guard, Men's, Long Sleeve, White, 16½ x 33

8405-00-NIB-0571—Kit, Pre-Cut Fabric, Pinpoint Dress Shirt, Coast Guard, Men's, Long Sleeve, White, 16½ x 34

8405-00-NIB-0572—Kit, Pre-Cut Fabric, Pinpoint Dress Shirt, Coast Guard, Men's, Long Sleeve, White, 16½ x 35

8405-00-NIB-0573—Kit, Pre-Cut Fabric, Pinpoint Dress Shirt, Coast Guard, Men's, Long Sleeve, White, 16½ x 36

8405-00-NIB-0574—Kit, Pre-Cut Fabric, Pinpoint Dress Shirt, Coast Guard, Men's, Long Sleeve, White, 16½ x 37

8405-00-NIB-0575—Kit, Pre-Cut Fabric, Pinpoint Dress Shirt, Coast Guard, Men's, Long Sleeve, White, 16 x 31

8405-00-NIB-0576—Kit, Pre-Cut Fabric, Pinpoint Dress Shirt, Coast Guard, Men's, Long Sleeve, White, 16 x 32

8405-00-NIB-0577—Kit, Pre-Cut Fabric, Pinpoint Dress Shirt, Coast Guard, Men's, Long Sleeve, White, 16 x 33

8405-00-NIB-0578—Kit, Pre-Cut Fabric, Pinpoint Dress Shirt, Coast Guard, Men's, Long Sleeve, White, 16 x 34

8405-00-NIB-0579—Kit, Pre-Cut Fabric, Pinpoint Dress Shirt, Coast Guard, Men's, Long Sleeve, White, 16 x 35

8405-00-NIB-0580—Kit, Pre-Cut Fabric, Pinpoint Dress Shirt, Coast Guard, Men's, Long Sleeve, White, 16 x 36

8405-00-NIB-0581—Kit, Pre-Cut Fabric, Pinpoint Dress Shirt, Coast Guard, Men's, Long Sleeve, White, 17½ x 32

8405-00-NIB-0582—Kit, Pre-Cut Fabric, Pinpoint Dress Shirt, Coast Guard, Men's, Long Sleeve, White, 17½ x 33

8405-00-NIB-0583—Kit, Pre-Cut Fabric, Pinpoint Dress Shirt, Coast Guard, Men's, Long Sleeve, White, 17½ x 34

8405-00-NIB-0584—Kit, Pre-Cut Fabric, Pinpoint Dress Shirt, Coast Guard, Men's, Long Sleeve, White, 17½ x 35

8405-00-NIB-0585—Kit, Pre-Cut Fabric, Pinpoint Dress Shirt, Coast Guard, Men's, Long Sleeve, White, 17½ x 36

8405-00-NIB-0586—Kit, Pre-Cut Fabric, Pinpoint Dress Shirt, Coast Guard, Men's, Long Sleeve, White, 17 x 32

8405-00-NIB-0587—Kit, Pre-Cut Fabric, Pinpoint Dress Shirt, Coast Guard, Men's, Long Sleeve, White, 17 x 33

8405-00-NIB-0588—Kit, Pre-Cut Fabric, Pinpoint Dress Shirt, Coast Guard, Men's, Long Sleeve, White, 17 x 34

8405-00-NIB-0589—Kit, Pre-Cut Fabric, Pinpoint Dress Shirt, Coast Guard, Men's, Long Sleeve, White, 17 x 35

8405-00-NIB-0590—Kit, Pre-Cut Fabric, Pinpoint Dress Shirt, Coast Guard, Men's, Long Sleeve, White, 17 x 36

8405-00-NIB-0591—Kit, Pre-Cut Fabric, Pinpoint Dress Shirt, Coast Guard, Men's, Long Sleeve, White, 17 x 37

8405-00-NIB-0592—Kit, Pre-Cut Fabric, Pinpoint Dress Shirt, Coast Guard, Men's, Long Sleeve, White, 18½ x 33

8405-00-NIB-0593—Kit, Pre-Cut Fabric, Pinpoint Dress Shirt, Coast Guard, Men's, Long Sleeve, White, 18½ x 34

8405-00-NIB-0594—Kit, Pre-Cut Fabric, Pinpoint Dress Shirt, Coast Guard, Men's, Long Sleeve, White, 18½ x 35

8405-00-NIB-0595—Kit, Pre-Cut Fabric, Pinpoint Dress Shirt, Coast Guard, Men's, Long Sleeve, White, 18½ x 36

8405-00-NIB-0596—Kit, Pre-Cut Fabric, Pinpoint Dress Shirt, Coast Guard, Men's, Long Sleeve, White, 18½ x 37

8405-00-NIB-0597—Kit, Pre-Cut Fabric, Pinpoint Dress Shirt, Coast Guard, Men's, Long Sleeve, White, 18½ x 38

8405-00-NIB-0598—Kit, Pre-Cut Fabric, Pinpoint Dress Shirt, Coast Guard, Men's, Long Sleeve, White, 18 x 32

8405-00-NIB-0599—Kit, Pre-Cut Fabric, Pinpoint Dress Shirt, Coast Guard, Men's, Long Sleeve, White, 18 x 33

8405-00-NIB-0600—Kit, Pre-Cut Fabric, Pinpoint Dress Shirt, Coast Guard, Men's, Long Sleeve, White, 18 x 34

8405-00-NIB-0601—Kit, Pre-Cut Fabric, Pinpoint Dress Shirt, Coast Guard, Men's, Long Sleeve, White, 18 x 35

8405-00-NIB-0602—Kit, Pre-Cut Fabric, Pinpoint Dress Shirt, Coast Guard, Men's, Long Sleeve, White, 18 x 36

8405-00-NIB-0603—Kit, Pre-Cut Fabric, Pinpoint Dress Shirt, Coast Guard, Men's, Long Sleeve, White, 18 x 37

8405-00-NIB-0604—Kit, Pre-Cut Fabric, Pinpoint Dress Shirt, Coast Guard, Men's, Long Sleeve, White, 19 x 33

8405-00-NIB-0605—Kit, Pre-Cut Fabric, Pinpoint Dress Shirt, Coast Guard, Men's, Long Sleeve, White, 19 x 34

8405-00-NIB-0606—Kit, Pre-Cut Fabric, Pinpoint Dress Shirt, Coast Guard, Men's, Long Sleeve, White, 19 x 35

8405-00-NIB-0607—Kit, Pre-Cut Fabric, Pinpoint Dress Shirt, Coast Guard, Men's, Long Sleeve, White, 19 x 36

8405-00-NIB-0608—Kit, Pre-Cut Fabric, Pinpoint Dress Shirt, Coast Guard, Men's, Long Sleeve, White, 19 x 37

8405-00-NIB-0609—Kit, Pre-Cut Fabric, Pinpoint Dress Shirt, Coast Guard, Men's, Long Sleeve, White, 20 x 33

8405-00-NIB-0610—Kit, Pre-Cut Fabric, Pinpoint Dress Shirt, Coast Guard, Men's, Long Sleeve, White, 20 x 34

8405-00-NIB-0611—Kit, Pre-Cut Fabric, Pinpoint Dress Shirt, Coast Guard, Men's, Long Sleeve, White, 20 x 35

8405-00-NIB-0612—Kit, Pre-Cut Fabric, Pinpoint Dress Shirt, Coast Guard, Men's, Long Sleeve, White, 20 x 36

8410-00-NIB-0031—Kit, Pre-Cut Fabric, Pinpoint Dress Shirt, USMC, Women's, Short Sleeve, White, XOS

8410-00-NIB-0032—Kit, Pre-Cut Fabric, Pinpoint Dress Shirt, USMC, Women's, Short Sleeve, White, 18L

8410-00-NIB-0033—Kit, Pre-Cut Fabric, Pinpoint Dress Shirt, USMC, Women's, Short Sleeve, White, 2S

8410-00-NIB-0034—Kit, Pre-Cut Fabric, Pinpoint Dress Shirt, USMC, Women's, Short Sleeve, White, 2R

8410-00-NIB-0035—Kit, Pre-Cut Fabric, Pinpoint Dress Shirt, USMC, Women's, Short Sleeve, White, 4S

8410-00-NIB-0036—Kit, Pre-Cut Fabric, Pinpoint Dress Shirt, USMC, Women's, Short Sleeve, White, 4R

8410-00-NIB-0037—Kit, Pre-Cut Fabric, Pinpoint Dress Shirt, USMC, Women's, Short Sleeve, White, 4L

8410-00-NIB-0038—Kit, Pre-Cut Fabric, Pinpoint Dress Shirt, USMC, Women's, Short Sleeve, White, 6S

8410-00-NIB-0039—Kit, Pre-Cut Fabric, Pinpoint Dress Shirt, USMC, Women's, Short Sleeve, White, 6R

8410-00-NIB-0040—Kit, Pre-Cut Fabric, Pinpoint Dress Shirt, USMC, Women's, Short Sleeve, White, 6L

8410-00-NIB-0041—Kit, Pre-Cut Fabric, Pinpoint Dress Shirt, USMC, Women's, Short Sleeve, White, 8S

8410-00-NIB-0042—Kit, Pre-Cut Fabric, Pinpoint Dress Shirt, USMC, Women's, Short Sleeve, White, 8R

8410-00-NIB-0043—Kit, Pre-Cut Fabric, Pinpoint Dress Shirt, USMC, Women's, Short Sleeve, White, 8L

8410-00-NIB-0044—Kit, Pre-Cut Fabric, Pinpoint Dress Shirt, USMC, Women's, Short Sleeve, White, 10S

8410-00-NIB-0045—Kit, Pre-Cut Fabric, Pinpoint Dress Shirt, USMC, Women's, Short Sleeve, White, 10R

8410-00-NIB-0046—Kit, Pre-Cut Fabric, Pinpoint Dress Shirt, USMC, Women's, Short Sleeve, White, 10L

8410-00-NIB-0047—Kit, Pre-Cut Fabric, Pinpoint Dress Shirt, USMC, Women's, Short Sleeve, White, 12S

8410-00-NIB-0048—Kit, Pre-Cut Fabric, Pinpoint Dress Shirt, USMC, Women's, Short Sleeve, White, 12R

8410-00-NIB-0049—Kit, Pre-Cut Fabric, Pinpoint Dress Shirt, USMC, Women's, Short Sleeve, White, 12L

8410-00-NIB-0050—Kit, Pre-Cut Fabric, Pinpoint Dress Shirt, USMC, Women's, Short Sleeve, White, 14S

8410-00-NIB-0051—Kit, Pre-Cut Fabric, Pinpoint Dress Shirt, USMC, Women's, Short Sleeve, White, 14R

8410-00-NIB-0052—Kit, Pre-Cut Fabric, Pinpoint Dress Shirt, USMC, Women's, Short Sleeve, White, 14L

8410-00-NIB-0053—Kit, Pre-Cut Fabric, Pinpoint Dress Shirt, USMC, Women's, Short Sleeve, White, 16S

8410-00-NIB-0054—Kit, Pre-Cut Fabric, Pinpoint Dress Shirt, USMC, Women's, Short Sleeve, White, 16R

8410-00-NIB-0055—Kit, Pre-Cut Fabric, Pinpoint Dress Shirt, USMC, Women's, Short Sleeve, White, 16L

8410-00-NIB-0056—Kit, Pre-Cut Fabric, Pinpoint Dress Shirt, USMC, Women's, Short Sleeve, White, 18R

8410-00-NIB-0057—Kit, Pre-Cut Fabric, Pinpoint Dress Shirt, USMC, Women's, Short Sleeve, White, XOR

8410-00-NIB-0058—Kit, Pre-Cut Fabric, Pinpoint Dress Shirt, Navy, Women's, Short Sleeve, White, 32 x 12

8410-00-NIB-0059—Kit, Pre-Cut Fabric, Pinpoint Dress Shirt, Navy, Women's, Short Sleeve, White, 32 x 13

8410-00-NIB-0060—Kit, Pre-Cut Fabric, Pinpoint Dress Shirt, Navy, Women's, Short Sleeve, White, 34 x 12

8410-00-NIB-0061—Kit, Pre-Cut Fabric, Pinpoint Dress Shirt, Navy, Women's, Short Sleeve, White, 34 x 13

8410-00-NIB-0062—Kit, Pre-Cut Fabric, Pinpoint Dress Shirt, Navy, Women's, Short Sleeve, White, 34 x 14

8410-00-NIB-0063—Kit, Pre-Cut Fabric, Pinpoint Dress Shirt, Navy, Women's, Short Sleeve, White, 34 x 15

8410-00-NIB-0064—Kit, Pre-Cut Fabric, Pinpoint Dress Shirt, Navy, Women's, Short Sleeve, White, 36 x 13

8410-00-NIB-0065—Kit, Pre-Cut Fabric, Pinpoint Dress Shirt, Navy, Women's, Short Sleeve, White, 36 x 14

8410-00-NIB-0066—Kit, Pre-Cut Fabric, Pinpoint Dress Shirt, Navy, Women's, Short Sleeve, White, 36 x 15

8410-00-NIB-0067—Kit, Pre-Cut Fabric, Pinpoint Dress Shirt, Navy, Women's, Short Sleeve, White, 38 x 13

8410-00-NIB-0068—Kit, Pre-Cut Fabric, Pinpoint Dress Shirt, Navy, Women's, Short Sleeve, White, 38 x 14

8410-00-NIB-0069—Kit, Pre-Cut Fabric, Pinpoint Dress Shirt, Navy, Women's, Short Sleeve, White, 38B x 15N

8410-00-NIB-0070—Kit, Pre-Cut Fabric, Pinpoint Dress Shirt, Navy, Women's, Short Sleeve, White, 38 x 16

8410-00-NIB-0071—Kit, Pre-Cut Fabric, Pinpoint Dress Shirt, Navy, Women's, Short Sleeve, White, 40 x 14

8410-00-NIB-0072—Kit, Pre-Cut Fabric, Pinpoint Dress Shirt, Navy, Women's, Short Sleeve, White, 40 x 15

8410-00-NIB-0073—Kit, Pre-Cut Fabric, Pinpoint Dress Shirt, Navy, Women's, Short Sleeve, White, 40 x 16

8410-00-NIB-0074—Kit, Pre-Cut Fabric, Pinpoint Dress Shirt, Navy, Women's, Short Sleeve, White, 42 x 15

8410-00-NIB-0075—Kit, Pre-Cut Fabric, Pinpoint Dress Shirt, Navy, Women's, Short Sleeve, White, 42 x 16

8410-00-NIB-0076—Kit, Pre-Cut Fabric, Pinpoint Dress Shirt, Navy, Women's, Short Sleeve, White, 44 x 14

8410-00-NIB-0077—Kit, Pre-Cut Fabric, Pinpoint Dress Shirt, Navy, Women's, Short Sleeve, White, 44 x 15

8410-00-NIB-0078—Kit, Pre-Cut Fabric, Pinpoint Dress Shirt, Navy, Women's, Short Sleeve, White, 44 x 16

8410-00-NIB-0079—Kit, Pre-Cut Fabric, Pinpoint Dress Shirt, Navy, Women's, Short Sleeve, White, 46 x 14

8410-00-NIB-0080—Kit, Pre-Cut Fabric, Pinpoint Dress Shirt, Navy, Women's, Short Sleeve, White, 46 x 15

8410-00-NIB-0081—Kit, Pre-Cut Fabric, Pinpoint Dress Shirt, Navy, Women's, Short Sleeve, White, 46 x 16

8410-00-NIB-0082—Kit, Pre-Cut Fabric, Pinpoint Dress Shirt, Navy, Women's, Short Sleeve, White, 46 x 17

8410-00-NIB-0083—Kit, Pre-Cut Fabric, Pinpoint Dress Shirt, Navy, Women's, Short Sleeve, White, 48 x 14

8410-00-NIB-0084—Kit, Pre-Cut Fabric, Pinpoint Dress Shirt, Navy, Women's, Short Sleeve, White, 48 x 15

8410-00-NIB-0085—Kit, Pre-Cut Fabric, Pinpoint Dress Shirt, Navy, Women's, Short Sleeve, White, 48 x 16

8410-00-NIB-0086—Kit, Pre-Cut Fabric, Pinpoint Dress Shirt, Navy, Women's, Short Sleeve, White, 48 x 17

8410-00-NIB-0087—Kit, Pre-Cut Fabric, Pinpoint Dress Shirt, Navy, Women's, Short Sleeve, White, 50 x 14

8410-00-NIB-0088—Kit, Pre-Cut Fabric, Pinpoint Dress Shirt, Navy, Women's, Short Sleeve, White, 50 x 15

8410-00-NIB-0089—Kit, Pre-Cut Fabric, Pinpoint Dress Shirt, Navy, Women's, Short Sleeve, White, 50 x 16

8410-00-NIB-0090—Kit, Pre-Cut Fabric, Pinpoint Dress Shirt, Navy, Women's, Short Sleeve, White, 50B x 17N

8410-00-NIB-0091—Kit, Pre-Cut Fabric, Pinpoint Dress Shirt, Navy, Women's, Short Sleeve, White, 50 x 18

8410-00-NIB-0092—Kit, Pre-Cut Fabric, Pinpoint Dress Shirt, Navy, Women's, Short Sleeve, White, 52 x 14

8410-00-NIB-0093—Kit, Pre-Cut Fabric, Pinpoint Dress Shirt, Navy, Women's, Short Sleeve, White, 52 x 15

8410-00-NIB-0094—Kit, Pre-Cut Fabric, Pinpoint Dress Shirt, Navy, Women's, Short Sleeve, White, 52 x 16

8410-00-NIB-0095—Kit, Pre-Cut Fabric, Pinpoint Dress Shirt, Navy, Women's, Short Sleeve, White, 52 x 17

Mandatory for: 100% of the requirements of Federal Prison Industries

Mandatory Source(s) of Supply: Winston-Salem Industries for the Blind, Inc., Winston-Salem, NC

Contracting Activity: Federal Prison System

Distribution: C-List

NSN(s)—Product Name(s):

5180-00-NIB-0025—Tool, Kit Refrigeration, Individual

5180-00-NIB-0026—Tool Kit, Refrigeration, Base

Mandatory for: 100% of the requirements of the U.S. Army

Mandatory Source of Supply: Beyond Vision, Milwaukee, WI

Contracting Activity: U.S. Army Contracting Command—Warren

Distribution: C-List

Service

Service Type: Document Destruction Service

Mandatory for: Defense Logistics Agency, Defense Supply Center, 3990 East Broad Street, Columbus, OH

Mandatory Source(s) of Supply: Greene, Inc., Xenia, OH

Contracting Activity: Defense Logistics Agency, DLA Contracting SVCS Off Columbus

Michael R. Jurkowski,
Business Management Specialist, Business Operations.

[FR Doc. 2018-18394 Filed 8-23-18; 8:45 am]

BILLING CODE 6353-01-P